INTERNATIONAL TRADE COMMISSION

[USITC SE-18-005]

Change to Date and Time of Government in the Sunshine Act Meeting Notice

Agency Holding the Meeting: United States International Trade Commission.

Original Time and Date: January 25, 2018 at 2:00 p.m.

New Date and Time: January 26, 2018 at 2:30 p.m.

Place: Room 100, 500 E Street SW, Washington, DC 20436, Telephone: (202) 205-2000.

Status: Open to the public.

In accordance with 19 CFR 201.35(d)(2)(i), the Commission hereby gives notice that the Commission has determined to change the date and time of the meeting originally scheduled for January 25, 2018 at 2:00 p.m. to January 26, 2018 at 2:30 p.m. to consider Inv. Nos. 701-TA-578 and 731-TA-1386 (Final) (100- to 150-Seat Large Civil Aircraft from Canada).

In accordance with Commission policy, subject matter listed above, not disposed of at the scheduled meeting, may be carried over to the agenda of the following meeting.

By order of the Commission:
Issued: January 24, 2018.
William R. Bishop,
Supervisory Hearings and Information Officer.

[FR Doc. 2018-01626 Filed 1-24-18; 4:15 pm]

BILLING CODE 7020-02-P